DEPARTMENT OF COMMERCE

Bureau of Industry and Security

15 CFR Part 740

[Docket No. 051219342-5342-01]

RIN: 0694-AD23

Cuba: Revisions of Personal Baggage Rules

AGENCY: Bureau of Industry and Security, Commerce.

ACTION: Final rule.

SUMMARY: This final rule amends the Export Administration Regulations (EAR) to clarify that certain personal articles are exempt from the 44-pound weight limit on personal baggage authorized for export to Cuba under License Exception Baggage (BAG).

DATES: This rule is effective May 26, 2006.

FOR FURTHER INFORMATION CONTACT: Rebecca Joyce, Foreign Policy Division, Office of Nonproliferation and Treaty Compliance, Bureau of Industry and Security, Department of Commerce, Telephone: (202) 482-4252, or e-mail: Rjoyce@bis.doc.gov.

SUPPLEMENTARY INFORMATION: On June 22, 2004 the Bureau of Industry and Security published a rule in the Federal Register implementing certain recommendations of the Commission for Assistance to a Free Cuba. (See 69 FR 34565, June 22, 2004). That rule placed a limit of 44 pounds on personal baggage eligible for License Exception Baggage (“BAG,” § 740.14 of the EAR) for most travelers to Cuba by adding a new paragraph (g) to License Exception BAG . This rule clarifies that restriction by adding a statement to paragraph (g) of License Exception BAG that wearing apparel and articles of personal adornment worn by the traveler while traveling to Cuba, and personal safety and medical commodities for use by the traveler, including wheelchairs, walkers, canes, crutches, portable medical devices (e.g., oxygen tanks), and child safety seats and strollers for use by a child traveler are not included in that 44-pound limit.

This rule does not make any changes to License Exception BAG other than those described in the preceding paragraph. Two such unchanged provisions of License Exception BAG merit particular mention. First, this rule does not in any way remove or relax the provisions of License Exception BAG found in § 740.14(a) of the EAR that require “[i]ndividuals leaving the United States temporarily (i.e., traveling) * * * [to] bring back items exported and reexported under this License Exception unless they consume the items abroad or are otherwise authorized to dispose of them under the EAR.” Second, this rule also does not in any way remove or relax the requirement of § 740.14(a)(1) of the EAR that personal effects exported under license exception BAG be of “[u]sual and reasonable kinds and quantities for personal use.”

Although the Export Administration Act of 1979 (EAA), as amended, expired on August 20, 2001, Executive Order 13222 of August 17, 2001 (3 CFR, 2001 Comp., p. 783 (2002)) as extended by the Notice of August 2, 2005, (70 FR 45273, August 5, 2005), continues the EAR in effect under the International Emergency Economic Powers Act (IEEPA).

Rulemaking Requirements

1. This rule has been determined to be not significant for the purposes of Executive Order 12866.

2. Notwithstanding any other provision of law, no person is required to respond to nor be subject to a penalty for failure to comply with a collection of information, subject to the requirements of the Paperwork Reduction Act of 1995 (44 U.S.C. 3501 et seq.) (PRA), unless that collection of information displays a currently valid Office of Management and Budget (OMB) Control Number. This regulation involves collections previously approved by the OMB under control numbers 0694-0088, “Multi-Purpose Application,” which carries a burden hour estimate of 58 minutes to prepare and submit form BIS-748. Miscellaneous and recordkeeping activities account for 12 minutes per submission. Burden hours associated with the Paperwork Reduction Act and Office and Management and Budget control number 0694-0088 are not impacted by this regulation. Send comments regarding these burden estimates or any other aspect of these collections of information, including suggestions for reducing the burden, to David Rostker, OMB Desk Officer, by e-mail at david_rostker@omb.eop.gov or by fax to (202) 395-7285; and to the Regulatory Policy Division, Bureau of Industry and Security, Department of Commerce, P.O. Box 273, Washington, DC 20044.

3. This rule does not contain policies with Federalism implications as this term is defined in Executive Order 13132.

4. The provisions of the Administrative Procedure Act (5 U.S.C. 553) requiring notice of proposed rulemaking, the opportunity for public participation, and a delay in effective date, are inapplicable because this regulation involves a military or foreign affairs function of the United States (See 5 U.S.C. 553(a)(1)). Further, no other law requires that a notice of proposed rulemaking and an opportunity for public comment be given for this rule. Because a notice of proposed rulemaking and an opportunity for public comment are not required to be given for this rule by 5 U.S.C. 553, or by any other law, the analytical requirements of the Regulatory Flexibility Act, 5 U.S.C. 601 et seq., are not applicable.

List of Subjects in 15 CFR Part 740

Administrative practice and procedure, Exports, Foreign trade, Reporting and recordkeeping requirements.

Accordingly, part 740 of the Export Administration Regulations (15 CFR parts 730-799) is amended as follows:

PART 740—[AMENDED]

1. The authority citation for part 740 is revised to read as follows:

Authority: 50 U.S.C. app. 2401 et seq.; 50 U.S.C. 1701 et seq.; Sec. 901-911, Pub. L. 106-387; E.O. 13026, 61 FR 58767, 3 CFR, 1996 Comp., p. 228; E.O. 13222, 66 FR 44025, 3 CFR, 2001 Comp., p. 783; Notice of August 2, 2005, 70 FR 45273 (August 5, 2005).

2. In § 740.14, add a sentence to the end of paragraph (g), before the note, to read as follows:

§ 740.14 Baggage (BAG).

* * * * *

(g) Special provision: Cuba.

* * * In calculating the 44 pound limit, the following commodities shall be excluded: wearing apparel and articles of personal adornment worn by the traveler while traveling to Cuba, personal safety and medical commodities for use by the traveler including wheelchairs, walkers, canes, crutches, portable medical devices (e.g., oxygen tanks), and child safety seats and strollers for use by a child traveler.

* * * * *

Dated: May 22, 2006.
Matthew S. Borman,
Deputy Assistant Secretary for Export Administration.

[FR Doc. E6-8092 Filed 5-25-06; 8:45 am]

BILLING CODE 3510-33-P